DEPARTMENT OF ENERGY

Federal Energy Regulatory Commission

Combined Notice of Filings #1

August 26, 2010.

Take notice that the Commission received the following exempt wholesale generator filings:

Docket Numbers: EG10-59-000.

Applicants: Pattern Gulf Wind, LLC.

Description: Notice of Self-Certification of Exempt Wholesale Generator Status.

Filed Date: 08/25/2010.

Accession Number: 20100825-5097.

Comment Date: 5 p.m. Eastern Time on Wednesday, September 15, 2010.

Take notice that the Commission received the following electric rate filings:

Docket Numbers: ER99-1115-014; ER98-1796-013; ER98-1127-014; ER07-486-005; ER07-1406-005; ER07-649-004; ER10-204-003; ER97-4281-022; ER10-574-002; ER99-1116-014.

Applicants: EL Segundo Power II LLC, Long Beach Generation LLC, Long Beach Peakers LLC, NRG Power Marketing LLC, Cabrillo Power I LLC, Cabrillo Power II LLC, El Segundo Power LLC, NRG Solar Blythe LLC, Saguaro Power Company, A Limited Partner.

Description: Amendment to Application of Cabrillo Power I LLC, et. al.

Filed Date: 08/26/2010.

Accession Number: 20100826-5100.

Comment Date: 5 p.m. Eastern Time on Thursday, September 16, 2010.

Docket Numbers: ER07-1174-006; OA07-74-006.

Applicants: MATL LLP.

Description: MATL LLP submits the instant filing to comply with the Commission's directive.

Filed Date: 08/25/2010.

Accession Number: 20100826-0202.

Comment Date: 5 p.m. Eastern Time on Wednesday, September 15, 2010.

Docket Numbers: ER10-1290-001.

Applicants: San Diego Gas & Electric Company.

Description: San Diego Gas & Electric Company submits tariff filing per 35: San Diego Gas & Electric Company FERC Electric Tariff, Volume 10 to be effective 8/26/2010.

Filed Date: 08/26/2010.

Accession Number: 20100826-5057.

Comment Date: 5 p.m. Eastern Time on Thursday, September 16, 2010.

Docket Numbers: ER10-2389-000.

Applicants: San Joaquin Cogen, LLC.

Description: San Joaquin Cogen, LLC submits tariff filing per 35.12: San Joaquin Cogen, LLC MBR Tariff to be effective 8/25/2010.

Filed Date: 08/25/2010.

Accession Number: 20100825-5100.

Comment Date: 5 p.m. Eastern Time on Wednesday, September 15, 2010.

Docket Numbers: ER10-2390-000.

Applicants: Bicent (California) Malburg LLC.

Description: Bicent (California) Malburg LLC submits tariff filing per 35.12: Bicent (California) Malburg MBR Tariff to be effective 8/25/2010.

Filed Date: 08/25/2010.

Accession Number: 20100825-5111.

Comment Date: 5 p.m. Eastern Time on Wednesday, September 15, 2010.

Docket Numbers: ER10-2391-000.

Applicants: Vermont Yankee Nuclear Power Corporation.

Description: Vermont Yankee Nuclear Power Corporation submits tariff filing per 35.12: Vermont Yankee Market-Based Rate Tariff Baseline Filing to be effective 8/25/2010.

Filed Date: 08/25/2010.

Accession Number: 20100825-5118.

Comment Date: 5 p.m. Eastern Time on Wednesday, September 15, 2010.

Docket Numbers: ER10-2392-000.

Applicants: State Line Energy, LLC.

Description: State Line Energy, LLC submits tariff filing per 35.12: Baseline to be effective 8/25/2010.

Filed Date: 08/25/2010.

Accession Number: 20100825-5119.

Comment Date: 5 p.m. Eastern Time on Wednesday, September 15, 2010.

Docket Numbers: ER10-2393-000.

Applicants: Midwest Independent Transmission System Operator, Inc.

Description: Midwest Independent Transmission System Operator, Inc. submits tariff filing per 35.13(a)(2)(iii: 08-25-10 TSR Engine Removal to be effective 10/25/2010.

Filed Date: 08/25/2010.

Accession Number: 20100825-5120.

Comment Date: 5 p.m. Eastern Time on Wednesday, September 15, 2010.

Docket Numbers: ER10-2394-000.

Applicants: BIV Generation Company, LLC.

Description: BIV Generation Company, LLC submits tariff filing per 35.12: BIV Generation Company, LLC MBR Tariff to be effective 8/25/2010.

Filed Date: 08/25/2010.

Accession Number: 20100825-5121.

Comment Date: 5 p.m. Eastern Time on Wednesday, September 15, 2010.

Docket Numbers: ER10-2395-000.

Applicants: Colorado Power Partners.

Description: Colorado Power Partners submits tariff filing per 35.12: Colorado Power Partners MBR Tariff to be effective 8/26/2010.

Filed Date: 08/26/2010.

Accession Number: 20100826-5030.

Comment Date: 5 p.m. Eastern Time on Thursday, September 16, 2010.

Docket Numbers: ER10-2396-000.

Applicants: Southern California Edison Company.

Description: Southern California Edison Company submits tariff filing per 35.13(a)(2)(iii: SGIA and Service Agmt with SCE 2.5MW-Site 22 Solar Project to be effective 8/27/2010.

Filed Date: 08/26/2010.

Accession Number: 20100826-5032.

Comment Date: 5 p.m. Eastern Time on Thursday, September 16, 2010.

Docket Numbers: ER10-2397-000.

Applicants: Arlington Wind Power Project LLC.

Description: Arlington Wind Power Project LLC submits tariff filing per 35.12: Arlington Wind Power Project MBR Tariff to be effective 8/26/2010.

Filed Date: 08/26/2010.

Accession Number: 20100826-5034.

Comment Date: 5 p.m. Eastern Time on Thursday, September 16, 2010.

Docket Numbers: ER10-2398-000.

Applicants: Blackstone Wind Farm, LLC.

Description: Blackstone Wind Farm, LLC submits tariff filing per 35.12: Blackstone Wind Farm, LLC MBR Tariff to be effective 8/26/2010.

Filed Date: 08/26/2010.

Accession Number: 20100826-5035.

Comment Date: 5 p.m. Eastern Time on Thursday, September 16, 2010.

Docket Numbers: ER10-2399-000.

Applicants: Blackstone Wind Farm II LLC.

Description: Blackstone Wind Farm II LLC submits tariff filing per 35.12: Blackstone Wind Farm II LLC MBR Tariff to be effective 8/26/2010.

Filed Date: 08/26/2010.

Accession Number: 20100826-5039.

Comment Date: 5 p.m. Eastern Time on Thursday, September 16, 2010.

Docket Numbers: ER10-2400-000.

Applicants: Blue Canyon Windpower LLC.

Description: Blue Canyon Windpower LLC submits tariff filing per 35.12: Blue Canyon Windpower LLC MBR Tariff to be effective 8/26/2010.

Filed Date: 08/26/2010.

Accession Number: 20100826-5040.

Comment Date: 5 p.m. Eastern Time on Thursday, September 16, 2010.

Docket Numbers: ER10-2401-000.

Applicants: Blue Canyon Windpower II LLC.

Description: Blue Canyon Windpower II LLC submits tariff filing per 35.12: Blue Canyon Windpower II LLC MBR Tariff to be effective 8/26/2010.

Filed Date: 08/26/2010.

Accession Number: 20100826-5041.

Comment Date: 5 p.m. Eastern Time on Thursday, September 16, 2010.

Docket Numbers: ER10-2402-000.

Applicants: Blue Canyon Windpower V LLC.

Description: Blue Canyon Windpower V LLC submits tariff filing per 35.12: Blue Canyon Windpower V LLC MBR Tariff to be effective 8/26/2010.

Filed Date: 08/26/2010.

Accession Number: 20100826-5049.

Comment Date: 5 p.m. Eastern Time on Thursday, September 16, 2010.

Docket Numbers: ER10-2403-000.

Applicants: Cloud County Wind Farm, LLC.

Description: Cloud County Wind Farm, LLC submits tariff filing per 35.12: Cloud County Wind Farm, LLC MBR Tariff to be effective 8/26/2010.

Filed Date: 08/26/2010.

Accession Number: 20100826-5053.

Comment Date: 5 p.m. Eastern Time on Thursday, September 16, 2010.

Docket Numbers: ER10-2404-000.

Applicants: Flat Rock Windpower II LLC.

Description: Flat Rock Windpower II LLC submits tariff filing per 35.12: Flat Rock Windpower II LLC MBR Tariff to be effective 8/26/2010.

Filed Date: 08/26/2010.

Accession Number: 20100826-5068.

Comment Date: 5 p.m. Eastern Time on Thursday, September 16, 2010.

Docket Numbers: ER10-2405-000.

Applicants: High Prairie Wind Farm II, LLC.

Description: High Prairie Wind Farm II, LLC submits tariff filing per 35.12: High Prairie Wind Farm II, LLC MBR Tariff to be effective 8/26/2010.

Filed Date: 08/26/2010.

Accession Number: 20100826-5070.

Comment Date: 5 p.m. Eastern Time on Thursday, September 16, 2010.

Docket Numbers: ER10-2406-000.

Applicants: High Trail Wind Farm, LLC.

Description: High Trail Wind Farm, LLC submits its baseline market-based tariff filing, to be effective 8/26/2010.

Filed Date: 08/26/2010.

Accession Number: 20100826-5071.

Comment Date: 5 p.m. Eastern Time on Thursday, September 16, 2010.

Docket Numbers: ER10-2407-000.

Applicants: Lost Lakes Wind Farm LLC.

Description: Lost Lakes Wind Farm LLC submits tariff filing per 35.12: Lost Lakes Wind Farm LLC MBR Tariff to be effective 8/26/2010.

Filed Date: 08/26/2010.

Accession Number: 20100826-5086.

Comment Date: 5 p.m. Eastern Time on Thursday, September 16, 2010.

Docket Numbers: ER10-2408-000.

Applicants: Marble River, LLC.

Description: Marble River, LLC submits tariff filing per 35.12: Marble River, LLC MBR Tariff to be effective 8/26/2010.

Filed Date: 08/26/2010.

Accession Number: 20100826-5087.

Comment Date: 5 p.m. Eastern Time on Thursday, September 16, 2010.

Docket Numbers: ER10-2409-000.

Applicants: Meadow Lake Wind Farm LLC.

Description: Meadow Lake Wind Farm LLC submits tariff filing per 35.12: Meadow Lake Wind Farm LLC MBR Tariff to be effective 8/26/2010.

Filed Date: 08/26/2010.

Accession Number: 20100826-5088.

Comment Date: 5 p.m. Eastern Time on Thursday, September 16, 2010.

Docket Numbers: ER10-2410-000.

Applicants: Meadow Lake Wind Farm II LLC.

Description: Meadow Lake Wind Farm II LLC submits tariff filing per 35.12: Meadow Lake Wind Farm II LLC MBR Tariff to be effective 8/26/2010.

Filed Date: 08/26/2010.

Accession Number: 20100826-5091.

Comment Date: 5 p.m. Eastern Time on Thursday, September 16, 2010.

Docket Numbers: ER10-2411-000.

Applicants: Meadow Lake Wind Farm III LLC.

Description: Meadow Lake Wind Farm III LLC submits tariff filing per 35.12: Meadow Lake Wind Farm III LLC MBR Tariff to be effective 8/26/2010.

Filed Date: 08/26/2010.

Accession Number: 20100826-5093.

Comment Date: 5 p.m. Eastern Time on Thursday, September 16, 2010.

Docket Numbers: ER10-2412-000.

Applicants: Meadow Lake Wind Farm IV LLC.

Description: Meadow Lake Wind Farm IV LLC submits tariff filing per 35.12: Meadow Lake Wind Farm IV LLC MBR Tariff to be effective 8/26/2010.

Filed Date: 08/26/2010.

Accession Number: 20100826-5096.

Comment Date: 5 p.m. Eastern Time on Thursday, September 16, 2010.

Docket Numbers: ER10-2413-000.

Applicants: Kincaid Generation, LLC.

Description: Kincaid Generation, LLC submits tariff filing per 35.12: Baseline to be effective 8/26/2010.

Filed Date: 08/26/2010.

Accession Number: 20100826-5097.

Comment Date: 5 p.m. Eastern Time on Thursday, September 16, 2010.

Docket Numbers: ER10-2414-000.

Applicants: Old Trail Wind Farm, LLC.

Description: Old Trail Wind Farm, LLC submits tariff filing per 35.12: Old Trail Wind Farm, LLC MBR Tariff to be effective 8/26/2010.

Filed Date: 08/26/2010.

Accession Number: 20100826-5099.

Comment Date: 5 p.m. Eastern Time on Thursday, September 16, 2010.

Take notice that the Commission received the following electric securities filings:

Docket Numbers: ES10-53-000.

Applicants: PATH Allegheny Transmission Company, LLC, PATH Allegheny Maryland Transmission Commission.

Description: PATH Allegheny Transmission Company, LLC, et al., Supplement to Section 204 Amendment Application.

Filed Date: 08/25/2010.

Accession Number: 20100825-5136.

Comment Date: 5 p.m. Eastern Time on Friday, September 03, 2010.

Take notice that the Commission received the following land acquisition reports:

Docket Numbers: LA10-2-000.

Applicants: Order 697-C 2010 2nd Qtr Site Acquisition.

Description: NRG Power Marketing Inc., et al., Order 697-C Compliance Filing Regarding Site Control and Request for Waiver.

Filed Date: 08/26/2010.

Accession Number: 20100826-5048.

Comment Date: 5 p.m. Eastern Time on Thursday, September 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-22258 Filed 9-7-10; 8:45 am]

BILLING CODE 6717-01-P